NATIONAL TRANSPORTATION SAFETY BOARD

Sunshine Act Meeting

TIME AND DATE: 9:30 a.m., Tuesday, November 8, 2011.

PLACE: NTSB Conference Center, 429 L'Enfant Plaza SW., Washington, DC 20594.

STATUS: The one item is open to the public.

MATTER TO BE CONSIDERED: 8352 Railroad Accident Report—Miami International Airport, Automated People Mover Train Collision with Passenger Terminal Wall Miami, Florida, November 28, 2008.

NEWS MEDIA CONTACT: Telephone: (202) 314-6100.

The press and public may enter the NTSB Conference Center one hour prior to the meeting for set up and seating.

Individuals requesting specific accommodations should contact Rochelle Hall at (202) 314-6305 by Friday, November 4, 2011.

The public may view the meeting via a live or archived webcast by accessing a link under “News & Events” on the NTSB home page at http://www.ntsb.gov.

FOR MORE INFORMATION CONTACT: Candi Bing, (202) 314-6403 or by Email at bingc@ntsb.gov.

Dated: October 28, 2011.
Candi R. Bing,
Federal Register Liaison Officer.

[FR Doc. 2011-28412 Filed 10-28-11; 4:15 pm]

BILLING CODE 7533-01-P